DEPARTMENT OF TRANSPORTATION

Saint Lawrence Seaway Development Corporation

33 CFR Part 401

[Docket No. SLSDC 2003-15136]

RIN 2135-AA18

Seaway Regulations and Rules: Stern Anchors and Navigation Underway

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by making requirement for stern anchors applicable to large tug and barge combinations and by adding new requirements for manning of the wheelhouse for vessels underway.

DATES: Any party wishing to present views on the proposed amendments may file comments with the Corporation on or before June 12, 2003.

ADDRESSES: Signed, written comments should refer to the docket number appearing at the top of this document and must be submitted to the Docket Clerk, U.S. DOT Dockets, Room PL-401, 400 Seventh Street, SW., Washington, DC 20590-0001. Written comments may also be submitted electronically at http://dmses.dot.gov/submit/BlankDSS.asp. All comments received will be available for examination between 9 a.m. and 5 p.m., E.T., Monday through Friday, except Federal holidays. Those desiring notification of receipt of comments must include a self-addressed, stamped envelope or postcard.

FOR FURTHER INFORMATION CONTACT: Marc C. Owen, Chief Counsel, Saint Lawrence Seaway Development Corporation, 400 Seventh Street, SW., Washington, DC 20590, (202) 366-6823.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by making requirement for stern anchors applicable to new tug and barge combinations. Some tug and barge combinations that transit the Seaway carry dangerous or hazardous cargo and are just as large, 110 meters or more in combination, as the commercial vessels to which the requirement now applies. Accordingly, the SLSDC is proposing to make the requirement that a vessel be equipped with a stern anchor also applicable to these large tug and barge combinations. This will provide increased safety through greater control. Specifically, § 401.15, “Stern anchors”, would be amended by adding a new subsection to read, “Every integrated tug and barge or articulated tug and barge unit greater than 110 m in overall length which is constructed after January 1, 2003, shall be equipped with a stern anchor.”

In addition, the SLSDC is proposing changes to the manning requirements for navigation underway to ensure greater safety for all vessels, which includes tugs and tug and barge combinations as well. The rule already requires adequate manning and operation of the propulsion machinery. Inadequate manning of the wheelhouse and during mooring and other essential duties also poses serious environmental and safety risks. Accordingly, it is proposed to amend § 401.35, “Navigation underway”, by adding two new subsections (c) and (d) to read as follows: “(c) man the wheelhouse of the vessel at all times by either the master or certified deck officer and by another qualified crewmember and (d) have sufficient well rested crewmembers available for mooring operations and other essential duties.”

Regulatory Evaluation

This proposed regulation involves a foreign affairs function of the United States and therefore Executive Order 12866 does not apply and evaluation under the Department of Transportation's Regulatory Policies and Procedures is not required.

Regulatory Flexibility Act Determination

The Saint Lawrence Seaway Development Corporation certifies that this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et reg.) because it is not a major federal action significantly affecting the quality of human environment.

Federalism

The Corporation has analyzed this proposed rule under the principles and criteria in Executive Order 13132, dated August 4, 1999, and has determined that this proposal does not have sufficient federalism implications to warrant a Federalism Assessment.

Unfunded Mandates

The Corporation has analyzed this proposed rule under title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR part 401 as follows:

PART 401—SEAWAY REGULATIONS AND RULES

Subpart A—[Amended]

1. The authority citation for subpart A of part 401 would continue to read as follows:

Authority: 33 U.S.C. 983(a) and 984(a)(4), as amended; 49 CFR 1.52, unless otherwise noted.

2. § 401.15 would be revised to read as follows:

§ 401.15 Stern anchors.

(a) Every ship of more than 110 m in overall length, the keel of which is laid after January 1, 1975, shall be equipped with a stern anchor.

(b) Every integrated tug and barge or articulated tug and barge unit greater than 110 m in overall length which is constructed after January 1, 2003, shall be equipped with a stern anchor.

2. In § 401.35, two new paragraphs (c) and (d) would be added to read as follows:

§ 401.35 Navigation underway.

* * * * *

(c) Man the wheelhouse of the vessel at all times by either the master or certified deck officer and by another qualified crewmember; and

(d) Have sufficient well rested crewmembers available for mooring operations and other essential duties.

Issued at Washington, DC on May 8, 2003. Saint Lawrence Seaway Development Corporation.
Marc C. Owen,
Chief Counsel.

[FR Doc. 03-11895 Filed 5-12-03; 8:45 am]

BILLING CODE 4910-61-P